DEPARTMENT OF THE INTERIOR

Fish and Wildlife Service

Pee Dee National Wildlife Refuge

AGENCY: Fish and Wildlife Service, Interior.

ACTION: Notice of intent to prepare a Comprehensive Conservation Plan and Environmental Assessment for Pee Dee National Wildlife Refuge in Anson and Richmond Counties, North Carolina.

SUMMARY: The Fish and Wildlife Service, Southeast Region, intends to gather information necessary to prepare a comprehensive conservation plan and environmental assessment pursuant to the National Environmental Policy Act of 1969 and its implementing regulations. The National Wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

The purpose of this notice is to achieve the following:

(1) Advise other agencies and the public of our intentions, and

(2) Obtain suggestions and information on the scope of issues to include in the environmental document.

DATES: To ensure consideration, written comments must be received no later than December 7, 2006.

ADDRESSES: Address comments, questions, and requests for further information to: Jeff Bricken, Refuge Manager, Pee Dee National Wildlife Refuge, 5770 U.S. Highway 52 North, Wadesboro, North Carolina 28170; Telephone: 704/694-4424; Fax: 704/694-6570. You may find additional information concerning the refuge at its Internet site: http://www.fws.gov/peedee/index.html.

SUPPLEMENTARY INFORMATION: The comprehensive conservation planning process will consider many elements, including wildlife and habitat management, public recreational activities, and cultural resource protection. Public input to the planning process is essential. A public scoping meeting will be held. Please contact the refuge manager in the ADDRESSES section regarding the public scoping meeting. All comments received from individuals become part of the official public record. Requests for such comments will be handled in accordance with the Freedom of Information Act and the Council on Environmental Quality's NEPA regulations [40 CFR 1506.6(f)].

Congress established Pee Dee National Wildlife Refuge in 1963 as a migratory bird refuge. Located along the Pee Dee River in North Carolina, it comprises 8,443 acres of bottomland hardwoods, mixed-pine hardwoods, upland pines, croplands, old fields, and moist-soil units. Management of the refuge includes cooperative farming that enhances wildlife food and cover, impoundment management for waterfowl and wading birds, timber management, field border and old field management, prescribed burning, deer heard management, and regional partnerships.

Authority: This notice is published under the authority of the National Wildlife Refuge System Improvement Act of 1997, Public Law 105-57.

Dated: October 4, 2006.
Cynthia K. Dohner,
Acting Regional Director.

[FR Doc. 06-9100 Filed 11-6-06; 8:45 am]

BILLING CODE 4310-55-M